DEPARTMENT OF ENERGY

Federal Energy Regulatory Commission

Combined Notice of Filings

Take notice that the Commission has received the following Natural Gas Pipeline Rate and Refund Report filings:

Filings Instituting Proceedings

Docket Numbers: PR25-63-000.

Applicants: Bridgeline Holdings, L.P.

Description: 284.123 Rate Filing: Informational Filing Pertaining to Market-Based Rate Authority to be effective N/A.

Filed Date: 8/1/25.

Accession Number: 20250801-5155.

Comment Date: 5 p.m. ET 8/22/25.

Docket Numbers: PR25-64-000.

Applicants: Jefferson Island Storage & Hub, L.L.C.

Description: 284.123 Rate Filing: Informational Filing Pertaining to Market-Based Rate Authority to be effective N/A.

Filed Date: 8/1/25.

Accession Number: 20250801-5158.

Comment Date: 5 p.m. ET 8/22/25.

Docket Numbers: RP25-1056-000.

Applicants: Kinetica Energy Express, LLC.

Description: 4(d) Rate Filing: Reservation of Capacity for Future Expansions Modification to be effective 9/1/2025.

Filed Date: 8/1/25.

Accession Number: 20250801-5159.

Comment Date: 5 p.m. ET 8/13/25.

Docket Numbers: RP25-1057-000.

Applicants: Midship Pipeline Company, LLC.

Description: 4(d) Rate Filing: Midship Pipeline Non-Conforming Contract Agreements filing to be effective 9/1/2025.

Filed Date: 8/1/25.

Accession Number: 20250801-5169.

Comment Date: 5 p.m. ET 8/13/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-473-002.

Applicants: National Grid LNG, LLC.

Description: Compliance filing: 2025-08-01 Motion to Place Suspended Tariff Records Into Effect to be effective 8/1/2025.

Filed Date: 8/1/25.

Accession Number: 20250801-5156.

Comment Date: 5 p.m. ET 8/13/25.

Docket Numbers: RP25-813-001.

Applicants: National Grid LNG, LLC.

Description: Compliance filing: 2025-08-01—Motion to Put Sec. 34 Record into Effect to be effective 8/1/2025.

Filed Date: 8/1/25.

Accession Number: 20250801-5203.

Comment Date: 5 p.m. ET 8/13/25.

Docket Numbers: RP25-1027-001.

Applicants: Midcontinent Express Pipeline LLC.

Description: Tariff Amendment: MEP July 2025 NRA Amendment Filing to be effective 8/1/2025.

Filed Date: 8/1/25.

Accession Number: 20250801-5147.

Comment Date: 5 p.m. ET 8/13/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 4, 2025.
Debbie-Anne A. Reese,
Secretary.

[FR Doc. 2025-15004 Filed 8-6-25; 8:45 am]

BILLING CODE 6717-01-P